DEPARTMENT OF HEALTH AND HUMAN SERVICES

Food and Drug Administration

[Docket No. FDA-2009-N-0336]

Animal Drug User Fee Rates and Payment Procedures for Fiscal Year 2010; Correction

AGENCY: Food and Drug Administration, HHS.

ACTION: Notice; correction.

SUMMARY: The Food and Drug Administration is correcting a notice entitled that appeared in the Federal Register of August 3, 2009 (74 FR 38429). The document announced the Fiscal Year 2010 fee rates for the Animal Drug User Fee Act. The document was published with a typographical error. This document corrects that error.

FOR FURTHER INFORMATION CONTACT: David Miller, Office of Financial Management (HFA-100), Food and Drug Administration, 5600 Fishers Lane, Rockville, MD 20857, 301-827-3917.

SUPPLEMENTARY INFORMATION: In FR Doc. E9-18459, appearing on page 38429 in the Federal Register of Monday, August 3, 2009, the following correction is made:

1. On page 38429, in the third column, in the first sentence of the last paragraph under Background, “$209,400” is corrected to read “$290,400”.

Dated: August 12, 2009.
Jeffrey Shuren,
Associate Commissioner for Policy and Planning.

[FR Doc. E9-19779 Filed 8-17-09; 8:45 am]

BILLING CODE 4160-01-S